NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 26, 2007. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (N1-462-04-20, 1 item, 1 temporary item). Master files associated with an electronic information system used as a tracking and notification system for suppliers' samples found to be E. coli O157:H7 positive.

2. Department of the Army, Agency-wide (N1-AU-07-3, 4 items, 4 temporary items). Records relating to flight regulations covering aircrew training, aircraft weight and balance, and mission approval process. Included are individual aviator training records, forms, charts, weight and balance data, worksheets, memoranda and authority designations. This schedule authorizes the agency to apply the proposed disposition instructions to any recordkeeping medium.

3. Department of Defense, National Geospatial-Intelligence Agency (N1-537-03-12, 1 item, 1 temporary item). Hard copy records containing geomagnetic information used as source material.

4. Department of Energy, Bonneville Power Administration (N1-305-05-5, 8 items, 8 temporary items). Records related to the sale of generated power from Federal system resources. Included are correspondence, contract information, case files, rate information, studies, meeting notes, cost reconciliations, accounts, status reports and similar materials. This schedule authorizes the agency to apply the proposed disposition instructions to any recordkeeping medium.

5. Department of Energy, Bonneville Power Administration (N1-305-05-6, 2 items, 2 temporary items). Records related to metering function and power billing interval data. Included are budget management documents, spreadsheets, timelines, scopes, charters, calculations, and similar materials. This schedule authorizes the agency to apply the proposed disposition instructions to any recordkeeping medium.

6. Department of Health and Human Services, Centers for Disease Control and Prevention (N1-442-06-1, 24 items, 23 temporary items). Records of the Coordinating Office for Terrorism Preparedness and Emergency Response documenting the registration and oversight of individuals or entities possessing, using, or transferring select agents and toxins. Included are applications, reports, assessments, permits, forms, web page documentation, and correspondence. Proposed for permanent retention are recordkeeping copies of memoranda, transcripts of speeches and meetings, and correspondence created by the Office of the Director. This schedule authorizes the agency to apply the proposed disposition instructions to any recordkeeping medium.

7. Department of Health and Human Services, Indian Health Service (N1-513-07-1, 2 items, 2 temporary items). Records accumulated by the Office of Environmental Health and Engineering documenting sanitation facilities constructed or provided. This schedule authorizes the agency to apply the proposed disposition instructions to any recordkeeping medium.

8. Department of Health and Human Services, Office of the Secretary (N1-468-06-1, 4 items, 4 temporary items). Records accumulated by the Program Support Center including forms used to register controlled substance distributors, controlled substance order forms, medical records for incapacitated dependents of Commissioned Corps Officers, and medical records of non-accepted Commissioned Corps applicants. This schedule authorizes the agency to apply the proposed disposition instructions to any recordkeeping medium.

9. Department of Health and Human Services, Office of the Secretary (N1-468-07-1, 1 item, 1 temporary item). Records accumulated by the Office of Preparedness and Emergency Operations including patient care forms and other medical records created by a Federal Medical Station in response to an emergency event. This schedule authorizes the agency to apply the proposed disposition instructions to any recordkeeping medium.

10. Department of Justice, Federal Bureau of Investigation (N1-65-06-1, 10 items, 10 temporary items). Records relating to the operations, management, and content of a web portal used to connect to other systems and share resources among multiple federal, state, and local agencies.

11. Department of Justice, Justice Management Division (N1-60-06-6, 4 items, 4 temporary items). Outputs, master files, and documentation relating to a system designed to track, throughout the forfeiture life-cycle, assets seized by Federal law enforcement agencies.

12. Department of Labor, Bureau of Labor Statistics (N1-257-06-1, 3 items, 3 temporary items). Chart books related to speeches made by the New York City Regional Commissioner and the Economic Analysis and Information Staff to regional, professional, and educational groups on topics of interest to BLS.

13. Department of Labor, Bureau of Labor Statistics (N1-257-06-2, 37 items, 35 temporary items). Inputs, master files, outputs, and program documentation associated with miscellaneous electronic systems of the Division of Administrative Services. These systems are used to support the administrative activities of the Division. Proposed for permanent retention are recordkeeping copies of emergency response plans.

14. Department of Transportation, Federal Highway Administration (N1-406-06-4, 5 items, 1 temporary item). Correspondence, directives, memoranda, reports, and other records relating to the development of a variety of administrative policies. Proposed for permanent retention are recordkeeping copies of historically significant policy files, Defense Access Roads subject files, reports of operations, and specifications for construction of roads and bridges on Federal highway projects.

15. Department of the Treasury, Bureau of the Public Debt (N1-53-06-4, 46 items, 42 temporary items). Records relating to support functions, including executive board, legal, Web site, budget, personnel, forms, history, public affairs, meeting notes, presentation, organization, consolidation, procedures, and instructions files. Proposed for permanent retention are recordkeeping copies of public affairs releases, reorganization change records, and executive studies.

16. Department of the Treasury, Bureau of the Public Debt (N1-53-06-7, 20 items, 16 temporary items). Records relating to the security auction transaction process. Proposed for permanent retention are recordkeeping copies of regulation development files, legislation development files, and historically important reports, studies, briefings, press releases, and correspondence.

17. Department of the Treasury, Internal Revenue Service (N1-58-07-1, 1 item, 1 temporary item). Completed IRS Form 6459, Return Preparer's Checklist, which is used to document potentially false income tax returns by preparers.

18. Department of the Treasury, Internal Revenue Service (N1-58-07-3, 1 item, 1 temporary item). Completed IRS Form 8655, Reporting Agent Authorization, which allows taxpayers to designate reporting agents.

19. Environmental Protection Agency, Agency-wide (N1-412-07-4, 3 items, 3 temporary items). This schedule authorizes the agency to apply the existing disposition instructions to several record series regardless of recordkeeping medium. The records include National Contingency Plan product files, spill prevention control and countermeasure facility plans, and oil removal contingency plans. Paper recordkeeping copies of these files were previously approved for disposal.

20. Environmental Protection Agency, Agency-wide (N1-412-07-6, 2 items, 1 temporary item). This schedule authorizes the agency to apply the existing disposition instructions to record series regardless of recordkeeping medium. The records include Resource Conservation and Recovery Act permit files for hazardous waste generators, transporters and treatment, storage and disposal facilities, as well as facilities that comply with regulations without following the usual permitting process. Paper recordkeeping copies of these files were previously approved for disposal. Also included are Resource Conservation and Recovery Act hazardous waste land disposal permit files, for which paper recordkeeping copies previously were approved as permanent.

21. Environmental Protection Agency, Agency-wide (N1-412-07-35, 3 items, 3 temporary items). This schedule authorizes the agency to apply the existing disposition instructions to a number of records series regardless of the recordkeeping medium. The records series include pesticides facilities files, pesticides imports files and pesticide producing establishment reports. Paper recordkeeping copies of these files were previously approved for disposal.

22. Environmental Protection Agency, Agency-wide (N1-412-07-36, 4 items, 4 temporary items). This schedule authorizes the agency to apply the existing disposition instructions to a number of records series regardless of the recordkeeping medium. The records series include the administrative documents relating to issuing permits including the permit application, draft permit or notice of intent to deny, statement of basis and documentation, the environmental impact statement and comments received, public hearing transcripts and related documentation, and the final permit. Paper recordkeeping copies of these files were previously approved for disposal.

23. Federal Mediation and Conciliation Service, Agency-wide (N1-280-05-1, 5 items, 5 temporary items). Administrative files documenting routine housekeeping activities, including copies of bulletins, training aids and course materials, working papers, general correspondence, and routine reports.

24. National Archives and Records Administration, Government-wide (N1-GRS-06-2, 6 items, 6 temporary items). Records created and maintained by Federal Chief Financial Officers and their program offices. This schedule applies to these records at agency or departmental headquarters as well as those of deputies and subordinates at the bureau or field office level. Included are records documenting agency financial management, auditing, and fiscal performance and accountability.

Dated: February 12, 2007.
Michael J. Kurtz,
Assistant Archivist for Records Services—Washington, DC.

[FR Doc. E7-2988 Filed 2-21-07; 8:45 am]

BILLING CODE 7515-01-P